DEPARTMENT OF HOMELAND SECURITY

[Docket No. CISA-2024-0037]

Request for Comment on the National Cyber Incident Response Plan Update

AGENCY: Cybersecurity and Infrastructure Security Agency (CISA), Department of Homeland Security (DHS).

ACTION: Notice of availability; extension of comment period.

SUMMARY: On December 16, 2024, the Cybersecurity and Infrastructure Security Agency (CISA) published a request for comment in the Federal Register on a draft National Cyber Incident Response Plan (NCIRP) Update, which requests feedback on the draft update. CISA is extending the public comment period for the draft update for an additional thirty days through February 14, 2025.

DATES: The comment period for the draft update published on December 16, 2024, at 89 FR 101614 is extended. Comments and related materials must be submitted on or before February 14, 2025.

ADDRESSES: You may submit comments, identified by docket number CISA-2024-0037, by clicking on the “Submit a Public Comment” button above or by following the instructions below for submitting comments directly via the Federal public document portal, at https://www.regulations.gov.

Instructions: All comments received must include the agency name and docket number CISA-2024-0037. All comments received will be posted without change to http://www.regulations.gov, including any personal information provided. CISA reserves the right to publicly republish relevant and unedited comments in their entirety that are submitted to the docket. Do not include personal information such as account numbers, social security numbers, or names of other individuals. Do not submit confidential business information or otherwise sensitive or protected information.

Docket: For access to the docket to read the draft National Cyber Incident Response Plan (NCIRP) Update or comments received, go to https://www.regulations.gov. For convenience, CISA has also posted the draft NCIRP Update on https://www.cisa.gov/national-cyber-incident-response-plan-ncirp.

FOR FURTHER INFORMATION CONTACT:

Technical Content information: Mark Peters, 771-212-7125, mark.peters@cisa.dhs.gov.

Program information: Michael Fogarty, 202-412-8385, michael.fogarty@cisa.dhs.gov.

SUPPLEMENTARY INFORMATION: On December 16, 2024, CISA published a request for comment on the NCIRP Update (89 FR 101614). In the draft update, CISA addresses changes in the cyber threat and operations landscape by incorporating feedback and lessons learned from stakeholders to make the updated NCIRP more fully inclusive across non-federal stakeholders—further establishing a foundation for continued improvement of the nation's response to significant cyber incidents. The request for comment provided for a 30-day comment period, set to close January 15, 2025. CISA received multiple requests to extend the deadline given the holidays occurring during the public comment period. Therefore, the comment period is now open through February 14, 2025.

This notice is issued under the authority of 6 U.S.C. 652, 659, 660, and 665b.

Jeffrey E. Greene,
Executive Assistant Director for Cybersecurity, Cybersecurity and Infrastructure Security Agency, Department of Homeland Security.

[FR Doc. 2024-31514 Filed 1-2-25; 8:45 am]

BILLING CODE 9111-LF-P